DEPARTMENT OF DEFENSE

Department of the Army; Corps of Engineers

Notice of Availability of a Draft Environmental Impact Statement in Cooperation With the North Carolina Department of Transportation for the Improvement of a 27.3 Mile Segment of US Highway 64 in Tyrrell and Dare Counties, NC

AGENCY: Department of the Army, U.S. Army Corps of Engineers, DoD.

ACTION: Notice of Availability.

SUMMARY: The U.S. Army Corps of Engineers (COE), Wilmington District, Wilmington Regulatory Division is issuing this notice to advise the public that a State of North Carolina funded Draft Environmental Impact Statement (DEIS) has been prepared for the improvement of US 64 to a multilane facility, and replacement of the Lindsay C. Warren bridge, in Tyrrell and Dare Counties, North Carolina (TIP Projects R-2544 and R-2545).

DATES: Written comments on the DEIS will be received until April 2, 2012.

ADDRESSES: Bill Biddlecome, U.S. Army Corps of Engineers, Washington Regulatory Field Office, 2407 West 5th Street, Washington, NC 27889 or Gregory J. Thorpe, Ph.D., Project Development and Environmental Analysis Unit, North Carolina Department of Transportation, 1548 Mail Service Center, Raleigh, North Carolina 27699-1548.

FOR FURTHER INFORMATION CONTACT: Questions about the proposed action and the DEIS can be directed to Mr. Bill Biddlecome, COE—Regulatory Project Manager, telephone: (910) 251-4558 or Mr. Ted Devens, Project Development Engineer, telephone: (919) 707-6018.

SUPPLEMENTARY INFORMATION: The COE in cooperation with the North Carolina Department of Transportation (NCDOT) has prepared a Draft Environmental Impact Statement (DEIS) on a proposal to make transportation improvements to a 27.3 mile segment of existing US Highway 64 in Tyrrell (TIP No. R-2545) and Dare (TIP No. R-2544) Counties, North Carolina, from a two-lane to a multiple-lane roadway, including replacement of the Lindsay C. Warren Bridge over the Alligator River.

The purpose of the proposed project is to reduce US 64 hurricane evacuation time to better meet state clearance goals in the project study area, to insure consistency with North Carolina's Strategic Highway Corridor Plan (which seeks long-term interconnectivity of consistent transportation corridors in North Carolina) and the Intrastate Highway System, and to maintain a bridge across the Alligator River that meets the needs of highway users.

This project is being reviewed through a Merger 01 process that is designed to streamline the project development and permitting processes; the process was mutually developed by NCDOT, COE, the North Carolina Department of Environment and Natural Resources (Division of Water Quality and Division of Coastal Management), the Federal Highway Administration (not applicable for this project), and supported by other stakeholder agencies and local units of government. Other partnering agencies on this project's Merger 01 team include the: U.S. Environmental Protection Agency; U.S. Fish and Wildlife Service; National Marine Fisheries Service, U.S. Coast Guard, N.C. Wildlife Resources Commission; N.C. Department of Cultural Resources, N.C. Division of Marine Fisheries, and the Alligator River National Wildlife Refuge. During the NEPA/SEPA decision-making phase of transportation projects, the Merger process provides a forum for appropriate agency representatives to discuss and reach consensus on the identification and selection of project alternatives that meet project purpose and need requirements, as well as the regulatory requirements of Section 404 of the Clean Water Act.

In 1989, US 64 was designated as part of the State's Intrastate System under Chapter 136 of the North Carolina General Statutes. In January 1999, NCDOT initiated a study to improve US 64 to a multi-lane facility from Columbia in Tyrrell County east to US 64/US 264 in Dare County. A series of meetings were held with local officials and residents of East Lake and Manns Harbor. There was general support for the project from local officials and residents.

In 2002, the project was presented to Federal and State Resource and Regulatory Agencies to gain concurrence on the purpose and need for the project. Following the meeting, it was agreed that further work on the US 64 project would be postponed pending completion of a revised Hurricane Evacuation study. The hurricane model revisions were completed in 2005. Model development was accomplished in conjunction with an Oversight Committee consisting of representatives from NCDOT, FHWA, numerous state and federal environmental resource and regulatory agencies, and Emergency Management officials from North Carolina's coastal counties. It was agreed that an 18-hour standard for clearance times would be applied to a Category 3 storm with 75 percent tourist occupancy of the Outer Banks. The 18-hour goal was adopted by the North Carolina Legislature in 2005. Following the completion of the new Hurricane Evacuation Study, the project was reinitiated as a State funded Environmental Impact Statement.

A scoping meeting was conducted on February 6, 2007 followed by a Public Officials Meeting and Citizens Informational Workshop on March 14, 2007. Public officials from Tyrrell and Dare Counties and the Towns of Columbia and Manteo attended the public officials meeting. There was unanimous support for the project from all local officials. A NEPA/404 Merger 01 Purpose and Need meeting was conducted on June 14, 2007. The Merger Team agreed that a suitable Purpose and Need exists for the project.

NEPA/404 Merger 01 meetings to determine Alternatives to be Studied were held on June 19 and August 21, 2008. Concurrence was not reached by the Merger Team. The Team provided issue briefs to the next-level Merger Management Team, which includes representatives from COE, North Carolina Department of Environment and Natural Resources Division of Water Quality, Federal Highway Administration, and NCDOT. At a meeting on October 16, 2008, the Merger Management Team agreed on the alternatives to be studied in detail in the DEIS, including lane, shoulder, and median widths; bridge navigation height, and corridor locations. On October 20, 2008, the full Merger Team concurred on typical sections in Tyrrell County and Tyrrell and Dare county corridor locations. They further concurred that additional environmental analysis would be conducted to determine alignments to be evaluated in detail in the DEIS within the selected corridors.

Upon completion of the DEIS, NCDOT submitted a request to COE to solicit comment from the public in order to identify the Least Environmentally Damaging Practicable Alternative (LEDPA) for the project. The Merger Team will meet again during late 2012 to select a LEDPA; however multiple meetings are anticipated which results in a concurrence expectation of late 2012 or early 2013.

Citizen public hearings are being scheduled by NCDOT for early spring 2012, at which time citizens will be able to voice their opinions on the current alternatives under study. Citizen input will be considered during LEDPA deliberations by the Merger Team. After a LEDPA decision is made, the recommended alternative(s) will be reported in a Final Environmental Impact Statement (FEIS), along with any supplementary studies or additional information that is collected after the DEIS.

The DEIS is electronically available on the COE's Web site at: http://www.saw.usace.army.mil/Wetlands/Projects/US 64Improvements and also available on the NCDOT Web site at: http://www.ncdot.gov/projects/us64improvements/. Any person having difficulty viewing the document online can contact the COE project manager or the NCDOT project manager for a CD copy of the document. Hardcopies of the DEIS are available at the NCDOT's Resident Engineer's Office in Manteo, public libraries in Manteo and Columbia, and county offices in Manteo and Columbia.

After distribution and review of the DEIS and Final Environmental Impact Statement, the Applicant (NCDOT) understands that COE, in coordination with NCDOT, will issue a Record of Decision (ROD) for the project. The ROD will document the completion of the EIS process and will serve as a basis for permitting decisions by federal and state agencies.

To ensure that the full range of issues related to this proposed action is addressed and all significant issues are identified, comments and suggestions are invited from all interested parties. Comments or questions concerning this proposed action and the EIS should be directed to COE at the address provided. The Wilmington District will periodically issue Public Notices soliciting public and agency comment on the proposed action and alternatives to the proposed action as they are developed.

Dated: February 8, 2012.
Henry M. Wicker,
Acting Chief, Wilmington Regulatory District.

[FR Doc. 2012-3751 Filed 2-16-12; 8:45 am]

BILLING CODE 3720-58-P